DEPARTMENT OF THE INTERIOR

National Park Service

Final Environmental Impact Statement/General Management Plan, Mount Ranier National Park, Pierce and Lewis Counties, WA; Notice of Approval of Record of Decision

Summary

Pursuant to § 102(2)(C) of the National Environmental Policy Act of 1969 (Public Law 91-190, as amended) and the regulations promulgated by the Council on Environmental Quality (40 CFR part 1505.2), the Department of the Interior, National Park Service has prepared and approved a Record of Decision for the Final Environmental Impact Statement/General Management Plan for Mount Rainier National Park. The no-action period was initiated November 9, 2001, with the U.S. Environmental Protection Agency's Federal Register (V66, N218, P56673) notification of the filing of the Final Environmental Impact Statement (FEIS).

Decision

As soon as practical the National Park Service will begin to implement the General Management Plan described as the Preferred Alternative (Alternative 2) contained in the FEIS, issued in October 2001. This alternative was deemed to be the “environmentally preferred” alternative, and it was further determined that implementation of the selected actions will not constitute an impairment of park values or resources. This course of action and two alternatives were identified and analyzed in the Final and Draft Environmental Impact Statements (the latter was distributed in November 2000). The full ranges of foreseeable environmental consequences were assessed, and appropriate mitigation measures identified.

Copies

Interested parties desiring to review the Record of Decision may obtain a copy by contacting the Superintendent, Mount Rainier National Park, Tahoma Woods, Star Route, Ashford, Washington 98304-9751; or via telephone request at (360) 589-2211 ext. 2332.

Dated: February 7, 2002.
John J. Reynolds,
Regional Director, Pacific West Region.

[FR Doc. 02-8697 Filed 4-9-02; 8:45 am]

BILLING CODE 4310-70-P